DEPARTMENT OF THE INTERIOR

Fish and Wildlife Service

[FWS-R6-R-2011-N134; 60138-1265-6CCP-S3]

Huron, Madison, and Sand Lake Wetland Management District; Comprehensive Conservation Plan

AGENCY: Fish and Wildlife Service, Interior.

ACTION: Notice of availability; request for comments.

SUMMARY: We, the U.S. Fish and Wildlife Service (Service), announce that our draft comprehensive conservation plan (CCP) and environmental assessment (EA) for the Huron, Madison, and Sand Lake Wetland Management Districts is available. This draft CCP/EA describes how the Service intends to manage these wetland management districts for the next 15 years.

DATES: To ensure consideration, we must receive your written comments on the draft CCP/EA by November 21, 2011. Submit comments by one of the methods under ADDRESSES.

ADDRESSES: Send your comments or requests for more information by any of the following methods.

E-mail: bernardo_garza@fws.gov. Include “South Dakota WMDs Draft CCP/EA” in the subject line of the message.

U.S. Mail: Bernardo Garza, Planning Team Leader, Division of Refuge Planning, P.O. Box 25486—DFC, Denver, CO 80225-0486.

FOR FURTHER INFORMATION CONTACT: Bernardo Garza, 303-236-4377 (phone); 303-236-4792 (fax); or bernardo_garza@fws.gov (e-mail) or David C. Lucas, 303-236-4366 (phone): 303-236-4792 (fax): or david_c_lucas@fws.gov.

SUPPLEMENTARY INFORMATION: The Huron Wetland Management District (district), Madison Wetland Management District, and Sand Lake Wetland Management District are part of the National Wildlife Refuge System. Together, these three districts manage 445 waterfowl production areas (WPA); over 378,000 acres of wetland easements, and more than 616,000 acres of grassland easements and other lands, such as Farmers Home Administration lands, in 27 counties in northern and eastern South Dakota. The lands managed by these districts comprise a mosaic of wetlands and grasslands which, with only few exceptions, are all within an area known as the prairie pothole region. These wetlands range from seasonal shallow basins to deeper, more permanent ponds that provide resting and feeding areas for millions of migratory birds during spring and fall migration, and year round for many other resident wildlife species.

The fee lands administered by these three districts provide opportunities for the public to enjoy compatible wildlife-dependent public use activities including hunting, fishing, wildlife observation, photography, environmental education, and interpretation. Domestic livestock grazing, prescribed fire, and haying are the primary management tools used to maintain and enhance WPA habitats. Where available, water level manipulation is used to improve wetland habitats. Invasive and nonnative plant species are controlled and eradicated in ongoing and methodical cooperative management activities with county governments and adjacent landowners.

Large, intact, native prairie communities can still be found throughout the area encompassed by these districts providing nesting habitat for a wide array of resident and migratory birds. As part of the central flyway, the concentration and variety of wetland types found in the planning area attracts thousands of migrating shorebirds and waterfowl to the district's lands.

Alternatives for the Overall Management of the Districts

The draft CCP/EA for the Huron, Madison, and Sand Lake Wetland Management Districts includes the analyses and description of three alternatives, including the No Action or Current Management Alternative, for the management of the district.

Alternative A, Current Management (No Action). Under this alternative, management activities currently conducted by the Service throughout all three districts would not change. The no-action alternative provides the baseline against which to compare other alternatives. It is also a requirement of the National Environmental Policy Act that a no-action alternative be addressed in the planning process. The Service would not develop any new management, restoration, education, or visitor services programs for the districts. Staff would not expand or change current habitat and wildlife management practices conducted for the benefit of waterfowl, migratory birds, and other wildlife. Staff would conduct monitoring, inventory, and research activities at their current level (that is, limited, issue-driven research and limited avian and vegetative monitoring and inventory). Funding and staff levels would not change, and programs would follow the same direction, emphasis, and intensity as they do at present.

Alternative B, Increased Efficiency (proposed action). Under this alternative, management of the three districts would emphasize developing and implementing an improved, science-based priority system to restore native prairie habitats for the benefit of waterfowl and other migratory birds. District staff would focus on high-priority tracts and, when possible, on medium-priority tracts. The focus of this alternative would be to restore ecological processes and native grassland species to the greatest extent possible within the parameters of available resources and existing budgetary and staffing constraints. Under this alternative, district staff would seek to maintain the existing levels and types of public use programs, ensuring that programs offered to the public are of consistently high quality.

Alternative C, Increased Efficiency with Expanded Resources. Under this alternative, management would follow the same prioritization system for restoration and management as under alternative B, but it would be based on projected staffing and funding increases. The management focus, like that of alternative B, would follow an improved prioritization system, but would also widen into additional existing WPAs. With increased funding and staffing, acquisition of new WPAs in fee title would also increase. Similarly, increased funding and staffing would enable commensurate increases in the number and scope of partnerships. The districts would continue to provide the same types of public uses but would expand the scope and quality of these opportunities.

Under Alternative C, targeting management of native prairie/wetland complexes would be more intensive and widespread. District staff would seek out projects for restoring high-quality native prairie in both high-and-low-priority tracts. This alternative would have the potential to provide additional management options to address habitat requirements and wildlife needs. The staff would seek to develop new environmental education and other public use programs as well as to reach out to new users. As under alternative B, the Service proposes, at a future date, a new administration/visitor center for the Huron WMD at the Taha-Mahopi WPA near the City of Huron, South Dakota.

Public Meetings and Availability of Comments

The Service will carry out open house public meetings during the public review period. District staff will be available during those public meetings to address questions from the attending public and provide printed or electronic copies (on compact discs) of the draft plan to anyone requesting them. Please visit the following Web sites for dates and other details regarding the upcoming public meetings.

Huron WMD: http://www.fws.gov/huronwetlands/.

Madison WMD: http://www.fws.gov/madisonwetlands/.

Sand Lake WMD: http://www.fws.gov/sandlake/.

Before including your address, phone number, e-mail address, or other personal identifying information in your comment, you should be aware that your entire comment—including your personal identifying information—may be made publicly available at any time. While you can ask us in your comment to withhold your personal identifying information from public review, we cannot guarantee that we will be able to do so. We will not consider anonymous comments. We will always make submissions from organizations or businesses, and from individuals identifying themselves as representatives of or officials of organizations or businesses, available for public inspection in their entirety.

The environmental review of this project will be conducted in accordance with the requirements of the National Environmental Policy Act (NEPA) of 1969, as amended (42 U.S.C. 4321 et seq.); NEPA Regulations (40 CFR parts 1500-1508); Department of Interior NEPA regulations; other appropriate Federal laws and regulations; Executive Order 12996 “Management and General Public Use of the National Wildlife Refuge System”; the National Wildlife Refuge System Improvement Act of 1997; and Service policies and procedures for compliance with those laws and regulations.

Dated: July 21, 2011.
Noreen E. Walsh,
Deputy Regional Director.

[FR Doc. 2011-27263 Filed 10-20-11; 8:45 am]

BILLING CODE 4310-55-P